DEPARTMENT OF HEALTH AND HUMAN SERVICES

Food and Drug Administration

Statement of Organization, Functions, and Delegations of Authority

AGENCY: Food and Drug Administration, HHS.

ACTION: Notice.

SUMMARY: The Food and Drug Administration (FDA), Office of Operations (OO), Office of Enterprise Management Services (OEMS) has modified its structure. This new organizational structure was approved by the Deputy Secretary of Health and Human Services on September 26, 2022, and effective on September 26, 2022.

FOR FURTHER INFORMATION CONTACT: Tiffany Branch, Associate Director for Management, Office of Enterprise Management Services, Office of Operations, Food and Drug Administration, 3 White Flint North, 11601 Landsdown Street, North Rockville, MD 20852, 240-402-3156.

SUPPLEMENTARY INFORMATION:

I. Introduction

Part D, Chapter D-B, (Food and Drug Administration), the Statement of Organization, Functions and Delegations of Authority for the Department of Health and Human Services (35 FR 3685, February 25, 1970, 60 FR 56606, November 9, 1995, 64 FR 36361, July 6, 1999, 72 FR 50112, August 30, 2007, 74 FR 41713, August 18, 2009, 76 FR 45270, July 28, 2011, and 84 FR 22854, May 20, 2019) is amended to reflect reorganization of OEMS.

This reorganization realigned the FDA History Office function from the Office of the Commissioner (OC), Office of External Affairs (OEA) to OO, OEMS and revised the OEA and OEMS functional statements to this function realignment.

The Food and Drug Administration, Office of Operations, Office of Enterprise Management Services has been restructured as follows:

DCNA. ORGANIZATION. OEMS is headed by the Director of Enterprise Management Services and includes the following organizational units:

Division of Compliance and Conflict Prevention

Division of Human Capital

Division of Information Governance

FDA History Office

Division of Resources Management

Division of Vendor Management

II. Delegations of Authority

Pending further delegation, directives, or orders by the Commissioner of Food and Drugs, all delegations and redelegations of authority made to officials and employees of affected organizational components will continue in them or their successors pending further redelegations, provided they are consistent with this reorganization.

III. Electronic Access

This reorganization is reflected in FDA's Staff Manual Guide (SMG). Persons interested in seeing the complete SMG can find it on FDA's website at: https://www.fda.gov/AboutFDA/ReportsManualsForms/StaffManualGuides/default.htm.

(Authority: 44 U.S.C. 3101).

Xavier Becerra,
Secretary of Health and Human Services.

[FR Doc. 2023-01566 Filed 1-25-23; 8:45 am]

BILLING CODE 4164-01-P